DEPARTMENT OF ENERGY

10 CFR Part 430

[EERE-2021-BT-TP-0030]

RIN 1904-AF29

Energy Conservation Program: Test Procedure for Central Air Conditioners and Heat Pumps

AGENCY: Office of Energy Efficiency and Renewable Energy, Department of Energy.

ACTION: Notice of proposed rulemaking; reopening of public comment period.

SUMMARY: On March 24, 2022, the U.S. Department of Energy (“DOE”) published in the Federal Register a notice of proposed rulemaking (“NOPR”) to amend test procedure for central air conditioners and heat pumps, with a deadline for submitting comments of May 23, 2022. Since publication of the proposed rule, DOE has received two requests to extend the comment period. DOE has reviewed these requests and is reopening the comment period until June 6, 2022.

DATES: The comment period for the NOPR published in the Federal Register on March 24, 2022 (87 FR 16830) is reopened until June 6, 2022. Written comments, data, and information are requested and will be accepted on and before June 6, 2022.

ADDRESSES: Interested persons are encouraged to submit comments using the Federal eRulemaking Portal at www.regulations.gov. Follow the instructions for submitting comments. Alternatively, interested persons may submit comments, identified by docket number EERE- 2021-BT-TP-0030, by any of the following methods:

(1) Federal eRulemaking Portal: www.regulations.gov. Follow the instructions for submitting comments.

(2) Email: CentralACHeatPumps2021TP0030@ee.doe.gov. Include the docket number EERE- 2021-BT-TP-0030 regulatory information number (“RIN”) 1904-AF29 in the subject line of the message.

No telefacsimiles (“faxes”) will be accepted.

Although DOE has routinely accepted public comment submissions through a variety of mechanisms, including postal mail and hand delivery/courier, the Department has found it necessary to make temporary modifications to the comment submission process in light of the ongoing COVID-19 pandemic. DOE is currently suspending receipt of public comments via postal mail and hand delivery/courier. If a commenter finds that this change poses an undue hardship, please contact Appliance Standards Program staff at (202) 586-1445 to discuss the need for alternative arrangements. Once the COVID-19 pandemic health emergency is resolved, DOE anticipates resuming all of its regular options for public comment submission, including postal mail and hand delivery/courier.

Docket: The docket for this activity, which includes Federal Register notices, comments, and other supporting documents/materials, is available for review at www.regulations.gov. All documents in the docket are listed in the www.regulations.gov index. However, some documents listed in the index, such as those containing information that is exempt from public disclosure, may not be publicly available.

The docket web page can be found at www.regulations.gov/docket/EERE-2021-BT-TP-0030. The docket web page will contain simple instructions on how to access all documents, including public comments, in the docket.

FOR FURTHER INFORMATION CONTACT:

Mr. Lucas Adin, U.S. Department of Energy, Office of Energy Efficiency and Renewable Energy, Building Technologies Office, EE-5B, 1000 Independence Avenue SW, Washington, DC 20585-0121. Telephone: (202) 586-9870. Email: ApplianceStandardsQuestions@ee.doe.gov.

Mr. Pete Cochran, U.S. Department of Energy, Office of the General Counsel, GC-33, 1000 Independence Avenue SW, Washington, DC 20585-0121. Telephone: (202) 586-9496. Email: peter.cochran@hq.doe.gov.

SUPPLEMENTARY INFORMATION: DOE published a NOPR in the Federal Register on March 24, 2022, proposing amendments to the DOE test procedures for central air conditioners and heat pumps at Title 10 of the Code of Federal Regulations (“CFR”), part 430, subpart B, appendices M (“appendix M”) and M1 (“appendix M1”). In that NOPR, DOE stated it would receive written comments, data, and information on the proposal by May 23, 2022. 87 FR 16830.

On May 6, 2022, DOE received separate written comments from National Comfort Products (NCP) and The American Heating, Refrigeration, and Air Conditioning Institute (AHRI) requesting an extension of the comment period. In their comment, NCP requested a 45-day extension of the comment period, citing their need for additional time to address specific impacts of the proposed rule on their company. AHRI stated its support for NCP's extension request, also indicating that the originally provided comment period “deviates from the Process Rule's 75-day comment period” and that the original comment deadline conflicts with several other rulemakings affecting AHRI members.¹

¹ DOE understands AHRI's reference to the “Process Rule” to mean the regulatory provisions entitled “Procedures, Interpretations, and Policies for Consideration of New or Revised Energy Conservation Standards and Test Procedures for Consumer Products and Certain Commercial/Industrial Equipment,” found at appendix A to subpart C of 10 CFR part 430.

DOE has reviewed these requests, and is reopening the comment period to allow additional time for interested parties to submit comments. In light of the potentially more significant impacts of certain provisions of the proposal on NCP, and the coincidental rulemaking activity cited by AHRI, DOE believes that additional time is warranted, and that reopening the comment period until June 6, 2022, is sufficient. In determining the appropriate extension, DOE notes that the Energy Policy and Conservation Act, as amended (“EPCA”),² specifically requires that the comment period for a proposed test procedure shall be not less than 60-day, and may be extended for good cause to be not more than 270 days (42 U.S.C. 6293(b)(2)). DOE also clarifies that, contrary to AHRI's assertion, the Process Rule (10 CFR part 430, subpart C, appendix A) does not provide a minimum comment period for test procedure proposed rules. Therefore, DOE is reopening the comment period until June 6, 2022.

² All references to EPCA in this document refer to the statute as amended through the Energy Act of 2020, Public Law 116-260 (Dec. 27, 2020).

Signing Authority

This document of the Department of Energy was signed on May 18, 2022, by Kelly J. Speakes-Backman, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 18, 2022.
Treena V. Garrett,
Federal Register Liaison Officer, U.S. Department of Energy.

[FR Doc. 2022-11056 Filed 5-23-22; 8:45 am]

BILLING CODE 6450-01-P